INTERNATIONAL TRADE COMMISSION

[Investigation No. 337-TA-1414]

Certain Semiconductor Devices and Products Containing the Same; Notice of a Commission Determination To Review in Part a Final Initial Determination Finding a Violation; Request for Written Submissions on Remedy, the Public Interest, and Bonding

AGENCY: U.S. International Trade Commission.

ACTION: Notice.

SUMMARY: Notice is hereby given that the U.S. International Trade Commission (“Commission”) has determined to review in part a final initial determination (“Final ID”) of the presiding administrative law judge (“ALJ”). The Commission requests written submissions, submissions from the parties, interested government agencies, and other interested persons on the issues of remedy, the public interest, and bonding, under the schedule set forth below.

FOR FURTHER INFORMATION CONTACT: Joelle Justus, Esq., Office of the General Counsel, U.S. International Trade Commission, 500 E Street SW, Washington, DC 20436, telephone (202) 205-2593. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on August 30, 2024, based on a complaint filed by Infineon Technologies Americas Corp. of El Segundo, California, and Infineon Technologies Austria AG of Villach, Austria (collectively, “Complainants” or “Infineon”). 89 FR 70667-68 (Aug. 30, 2024). The complaint, as supplemented, alleges violations of section 337 of the Tariff Act of 1930, as amended, 19 U.S.C. 1337, in the importation into the United States, the sale for importation, or the sale within the United States after importation of certain semiconductor devices and products containing the same by reason of infringement of claims 1-4, 6, 9, and 17 of U.S. Patent No. 9,899,481 (“the '481 patent”); claims 1, 2, 8-10, and 13-15 of U.S. Patent No. 8,686,562 (“the '562 patent”); claims 1-4, 8, and 9 of U.S. Patent No. 9,070,755 (“the '755 patent”); and claims 1, 2, and 10 of U.S. Patent No. 8,264,003 (“the '003 patent”). Id. at 70667. The complaint further alleges that a domestic industry exists. Id. The Commission's notice of investigation named as respondents Innoscience (Suzhou) Technology Company, Ltd., of Lili Town, China; Innoscience (Suzhou) Semiconductor Co., Ltd., of Lili Town, China; Innoscience (Zhuhai) Technology Company, Ltd., of Guangdong, China; and Innoscience America, Inc., of Santa Clara, California (collectively, “Respondents” or “Innoscience”). Id. The Office of Unfair Import Investigations is not participating in the investigation. Id.

On November 4, 2024, the Commission determined not to review an initial determination granting Complainants' unopposed motion to amend the complaint and notice of investigation to correct the corporate title of Respondent Innoscience (Suzhou) Technology Co., Ltd. to Innoscience (Suzhou) Technology Holding Co., Ltd. See Order No. 7 (Oct. 10, 2024), unreviewed by Comm'n Notice (Nov. 4, 2024). On April 29, 2025, the Commission determined not to review an initial determination granting Complainants' unopposed motion to terminate the investigation as to all asserted claims of the '003 patent and claim 9 of the '481 patent. See Order No. 27 (Apr. 3, 2025), unreviewed by Comm'n Notice (Apr. 29, 2025). And on May 20, 2025, the Commission determined not to review an initial determination granting Complainants' unopposed motion to terminate the investigation as to all asserted claims of the '562 patent. See Order No. 46 (Apr. 30, 2025), unreviewed by Comm'n Notice (May 20, 2025).

On December 2, 2025, the ALJ issued the Final ID finding a violation of section 337 by Innoscience with respect to the '481 patent, and no violation with respect to the '755 patent. The Final ID finds, inter alia, that (1) Infineon proved infringement and satisfaction of the technical prong of the domestic industry requirement (“technical prong”) for claims 1-4, 6, and 17 of the '481 patent, and that Innoscience did not show any of those claims invalid; (2) Infineon failed to show infringement or satisfaction of the technical prong for claims 1-4, 8, and 9 of the '755 patent and Innoscience did not show any of the asserted claims of the '755 patent invalid. The Final ID also finds that Infineon satisfied the economic prong of the domestic industry requirement for the '481 patent.

The ALJ also issued a recommended determination (“RD”) on remedy and bonding. The RD recommends that, if the Commission were to find a violation, it should issue a limited exclusion order as well as and cease and desist orders against the Respondents based on their significant U.S. inventory and significant U.S. operations. The RD further recommends that the Commission issue a bond of one hundred (100) percent.

On December 15, 2025, Innoscience filed a petition for review of the Final ID's finding of violation as to the '481 patent. That same day, Infineon filed a petition for review of the Final ID's finding of no violation as to the '755 patent. The parties filed responses to the petitions on December 23, 2025.

Having reviewed the record of the investigation, including the Final ID, the parties' submissions to the ALJ, the petitions for review, and the responses thereto, the Commission has determined to review the Final ID in part. Specifically, the Commission has determined to review the Final ID's findings as to the '481 patent regarding claim construction of “lateral transistor devices,” infringement, technical and economic prongs of the domestic industry requirement, and validity. The Commission has determined not to review the remainder of the Final ID.

In connection with its review, the Commission requests responses to the following questions. The parties are requested to brief their positions with reference to the applicable law and the existing evidentiary record.

1. With respect to whether claims 1-3 and 6 of the '481 patent are rendered obvious by Nega in combination with Roberts:

a. Have Respondents met their burden to show a reasonable likelihood of success? In answering this question, please address, in addition to any other relevant considerations, Infineon's arguments regarding the complexities of packaging design (including such factors as thermal control and current conductions).

b. If the Commission finds that Respondents have made a prima facie showing of obviousness, do secondary considerations rebut this showing? In this situation, should the Commission remand the issue to the ALJ to make findings on secondary considerations in the first instance?

2. Does the record permit a quantitative and qualitative assessment of the significance of complainant's domestic industry investments/expenses that takes into account all non-U.S. activities, including manufacturing, related to the DI products? Examples of such a quantitative assessment include a comparison of domestic with foreign investments; a value-added analysis; or a comparison of domestic investments to total value of, or revenue (U.S., global, or both) from, the DI products. In answering this question, please address the appropriate use of the data in CDX-0005C.25.

The parties are invited to brief only the discrete issues requested above. The parties are not to brief other issues on review, which are adequately presented in the parties' existing filings.

In connection with the final disposition of this investigation, the statute authorizes issuance of, inter alia, (1) an exclusion order that could result in the exclusion of the subject articles from entry into the United States; and/or (2) cease and desist orders that could result in the respondents being required to cease and desist from engaging in unfair acts in the importation and sale of such articles. Accordingly, the Commission is interested in receiving written submissions that address the form of remedy, if any, that should be ordered. If a party seeks exclusion of an article from entry into the United States for purposes other than entry for consumption, the party should so indicate and provide information establishing that activities involving other types of entry either are adversely affecting it or likely to do so. For background, see Certain Devices for Connecting Computers via Telephone Lines, Inv. No. 337-TA-360, USITC Pub. No. 2843, Comm'n Op. at 7-10 (Dec. 1994).

The statute requires the Commission to consider the effects of that remedy upon the public interest. The public interest factors the Commission will consider include the effect that an exclusion order and cease and desist orders would have on: (1) the public health and welfare, (2) competitive conditions in the U.S. economy, (3) U.S. production of articles that are like or directly competitive with those that are subject to investigation, and (4) U.S. consumers. The Commission is therefore interested in receiving written submissions that address the aforementioned public interest factors in the context of this investigation.

In connection with the consideration of the public interest, the Commission requests responses from the parties to the following question:

1. Please identify which, if any, of the '481 patent accused products are subject to the remedial orders in Investigation No. 337-TA-1366.

2. Please identify with supporting facts and data the share of the U.S. market for the '481 patent accused products, and also delineate the market share for any '481 patent accused products that are not subject to the remedial orders in Investigation No. 337-TA-1366. Please also identify with supporting facts and data the share of the U.S. market for the Infineon '481 patent DI products, as well as other suppliers and whether these suppliers have the capability to supply U.S. demand in the event of an exclusion order and/or cease and desist orders.

3. Please explain with supporting facts and data the extent to which competitors' products are reasonable substitutes for the accused products.

If the Commission orders some form of remedy, the U.S. Trade Representative, as delegated by the President, has 60 days to approve, disapprove, or take no action on the Commission's determination. See Presidential Memorandum of July 21, 2005, 70 FR 43251 (July 26, 2005). During this period, the subject articles would be entitled to enter the United States under bond, in an amount determined by the Commission and prescribed by the Secretary of the Treasury. The Commission is therefore interested in receiving submissions concerning the amount of the bond that should be imposed if a remedy is ordered.

Written Submissions: The parties to the investigation are requested to file written submissions on the issues identified in this notice. Parties to the investigation, interested government agencies, and any other interested parties are encouraged to file written submissions on the issues of remedy, the public interest, and bonding. Such submissions should address the recommended determination by the ALJ on remedy and bonding.

In its initial submission, Complainant is also requested to identify the remedy sought and to submit proposed remedial orders for the Commission's consideration. Complainant is further requested to state the date that the '481 patent expires, to provide the HTSUS subheadings under which the accused products are imported, and to supply the identification information for all known importers of the products at issue in this investigation. All initial written submissions, from the parties and/or third parties/interested government agencies, and proposed remedial orders from the parties must be filed no later than close of business on February 17, 2026. All reply submissions must be filed no later than the close of business on February 24, 2026. Opening submissions from the parties are limited to 30 pages. Reply submissions from the parties are limited to 15 pages. All submission from third parties and/or interested government agencies are limited to 10 pages. No further submissions on any of these issues will be permitted unless otherwise ordered by the Commission.

Persons filing written submissions must file the original document electronically on or before the deadlines stated above pursuant to 19 CFR 210.4(f). Submissions should refer to the investigation number (Inv. No. 337-TA-1414) in a prominent place on the cover page and/or the first page. (See Handbook for Electronic Filing Procedures, https://www.usitc.gov/documents/handbook_on_filing_procedures.pdf). Persons with questions regarding filing should contact the Secretary, (202) 205-2000.

Any person desiring to submit a document to the Commission in confidence must request confidential treatment by marking each document with a header indicating that the document contains confidential information. This marking will be deemed to satisfy the request procedure set forth in Rules 201.6(b) and 210.5(e)(2) (19 CFR 201.6(b) & 210.5(e)(2)). Documents for which confidential treatment by the Commission is properly sought will be treated accordingly. Any non-party wishing to submit comments containing confidential information must serve those comments on the parties to the investigation pursuant to the applicable Administrative Protective Order. A redacted non-confidential version of the document must also be filed with the Commission and served on any parties to the investigation within two business days of any confidential filing. All information, including confidential business information and documents for which confidential treatment is properly sought, submitted to the Commission for purposes of this investigation may be disclosed to and used: (i) by the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel, solely for cybersecurity purposes. All contract personnel will sign appropriate nondisclosure agreements. All nonconfidential written submissions will be available for public inspection on EDIS.

The Commission vote for this determination took place on February 2, 2026.

The authority for the Commission's determination is contained in section 337 of the Tariff Act of 1930, as amended (19 U.S.C. 1337), and in Part 210 of the Commission's Rules of Practice and Procedure (19 CFR part 210).

By order of the Commission.
Issued: February 2, 2026.
Lisa Barton,
Secretary to the Commission.

[FR Doc. 2026-02297 Filed 2-4-26; 8:45 am]

BILLING CODE 7020-02-P